DEPARTMENT OF COMMERCE

National Oceanic and Atmospheric Administration

Intent To Prepare a Draft Environmental Impact Statement for the Proposed He'eia National Estuarine Research Reserve in Kane'ohe Bay, Hawai'i

AGENCY: National Estuarine Research Reserve System, Office for Coastal Management, National Ocean Service, National Oceanic and Atmospheric Administration, Department of Commerce.

ACTION: Notice.

SUMMARY: In accordance with section 315 of the Coastal Zone Management Act of 1972, as amended (16 U.S.C. 1451-1466), the State of Hawai`i and the National Oceanic and Atmospheric Administration (NOAA) intend to conduct two public scoping meetings on December 17, 2014, in Kane`ohe, Hawai`i, and on December 19, 2014, in Honolulu, Hawai`i, as part of NOAA's draft environmental impact statement (DEIS) and draft management plan (DMP) process to solicit comments for the preparation of a DEIS and DMP on the Proposed He'eia National Estuarine Research Reserve in Kane'ohe Bay.

DATES: December 17, 2014, at 5:00-7:00 p.m. and December 19, 2014, at 5:00-7:00 p.m.

ADDRESSES: December 17 at the King Intermediate School, 46-155 Kamehameha Hwy., Kane`ohe, HI 96744 and December 19 at the NOAA Fisheries Honolulu Service Center, 1139 N. Nimitz Hwy., Ste 220, Honolulu, HI 96817.

FOR FURTHER INFORMATION CONTACT: Contact Rebecka Arbin, Hawai`i Office of Planning, P. O. Box 2359, Honolulu, HI 96804 at (808)587-2831 or rebecka.j.arbin@dbedt.hawaii.gov or Joelle Gore, Acting Chief, Stewardship Division, Office for Coastal Management, National Ocean Service, NOAA, 1305 East-West Highway, Silver Spring, Maryland 20910, at (301) 713-3155 ext. 177, or Hawaii.nerr.comments@noaa.gov.

SUPPLEMENTARY INFORMATION: The decision to be made by NOAA is whether to designate the proposed He`eia National Estuarine Research Reserve. The State of Hawai`i, through its Office of Planning, site partners and NOAA are working to determine the boundaries of the reserve, how the reserve would be managed, and the policies of the proposed reserve. These decisions will be made through an analysis process and described in the reserve management plan.

Found within the largest sheltered bay in the Hawaiian Islands, the He`eia estuary constitutes a range of diverse habitats, including uplands, wetland, and fringing coral reefs, and is representative of the estuarine habitats in the Insular biogeographic region. In addition, the site hosts numerous traditional Hawaiian practices, including an ancient Hawaiian fish pond and taro cultivation. The combination of unique traditional Hawaiian land uses and natural habitats is expected to attract a broad range of research interests from multiple scientific disciplines. In July 2012, the Governor of Hawai`i sent NOAA a letter of interest in exploring the feasibility of designating a reserve within the Hawaiian Islands based on ongoing conversations with community groups and the University of Hawai`i. In February 2013, the State of Hawai`i undertook a site selection process to determine appropriate areas of the Hawaiian Islands that might be nominated for inclusion in the reserve System. Hawai`i, working with scientists, community organizations, and the public, gathered input and suggestions to inform the selection of a potential site for consideration as a national estuarine research reserve.

On May 21, 2014, the Governor of the State of Hawai`i nominated the He`eia estuary for consideration as a Hawai`i reserve. On October 27, 2014, NOAA accepted the site nomination document for the proposed He`eia reserve and initiated planning efforts with the Hawai`i Office of Planning HIMB.

The He`eia reserve is proposed to be administered by the State of Hawaii in cooperation with the Hawaii Office of Planning, the Hawai`i Department of Land and Natural Resources, the University of Hawai`i, Hawai`i Community Development Authority, and community organizations Kako`o `Ōiwi, Paepae o He`eia, Ko`olaupoko Hawaiian Civic Club, Kamaaina Kids, and The Nature Conservancy, with support from other state and county agencies and community members. The Hawai`i Office of Planning, in collaboration with those partners, is jointly developing an outline of a preliminary DMP. The outline is intended to identify specific needs and priorities related to research, education, and stewardship. At the public meetings, the Hawai`i Office of Planning and NOAA will provide a synopsis of the process for developing a DEIS and DMP and will solicit comments on the scope and the significant issues to be analyzed in a DEIS.

Interested parties who wish to submit suggestions or comments about the scope or content of the proposed DEIS and DMP are invited to attend the above meetings or provide comments to the Hawai`i Office of Planning or NOAA's Office for Coastal Management. Comments can be submitted to Hawaii.nerr.comments@noaa.gov or U.S. mail at the addresses listed below.

Federal Domestic Assistance Catalog Number 11.420 (Coastal Zone Management) Research Reserves

Dated: November 18, 2014.
Donna Rivelli,
Deputy Chief Financial Officer, National Ocean Service, National Oceanic and Atmospheric Administration.

[FR Doc. 2014-27729 Filed 11-21-14; 8:45 am]

BILLING CODE 3510-08-P